NUCLEAR REGULATORY COMMISSION

[Docket Nos. 50-277 and 50-278]

Exelon Generation Company, LLC (Exelon), Peach Bottom Atomic Power Station, Units 2 and 3; Notice of Receipt of Application for Renewal of Facility Operating License Nos. DPR-44 and DPR-56 for an Additional 20-Year Period

The U.S. Nuclear Regulatory Commission has received an application from Exelon Generation Company, LLC (Exelon) dated July 2, 2001, filed pursuant to Section 104b of the Atomic Energy Act of 1954, as amended, and 10 CFR Part 54 for renewal of Operating License Nos. DPR-44 and DPR-56, which authorize the applicant to operate Peach Bottom Atomic Power Station, Units 2 and 3. Peach Bottom Atomic Power Station is a two-unit boiling water reactor located in York County and Lancaster County in southeastern Pennsylvania. The operating licenses for Peach Bottom, Units 2 and 3, expire on August 8, 2013, and July 2, 2014, respectively. The acceptability of the tendered application for docketing and other matters, including an opportunity to request a hearing will be the subject of subsequent Federal Register notices.

Copies of the application are available for public inspection at the Commission's Public Document Room, located at One White Flint North, 11555 Rockville Pike (first floor), Rockville, Maryland, or electronically from the Publicly Available Records (PARS) component of the NRC's Agencywide Documents Access and Management System (ADAMS). The ADAMS Public Electronic Reading Room is accessible from the NRC Web site at http://www.nrc.gov/NRC/ADAMS/index.html. In addition, the application is available on the NRC web page at http://www.nrc.gov/NRC/REACTOR/LR/index.html. If you do not have access to ADAMS or if there are problems in accessing the documents located in ADAMS, contact the NRC Public Document Room (PDR) Reference staff at 1-800-397-4209, 301-415-4737 or by email to pdr@nrc.gov.

The license renewal application for the Peach Bottom Atomic Power Station is also available to local residents at the Harford County Public Library, in Whiteford, Maryland, and the Collinsville Community Library, in Brogue, Pennsylvania.

Dated at Rockville, Maryland, the 19th day of July 2001.
For the Nuclear Regulatory Commission.
Christopher I. Grimes,
Chief, License Renewal and Standardization Branch, Division of Regulatory Improvement Programs, Office of Nuclear Reactor Regulation.

[FR Doc. 01-18521 Filed 7-24-01; 8:45 am]

BILLING CODE 7590-01-P